DEPARTMENT OF HOUSING AND URBAN DEVELOPMENT

[Docket No. FR-5613-N-04]

Privacy Act of 1974; Notification to Update an Existing Privacy Act System of Records, “Grievance Records”

AGENCY: Office of the Chief Information Officer, HUD.

ACTION: Notification Amend an Existing System of Records.

SUMMARY: The U.S. Department of Housing and Urban Development is proposing to amend the system notice for, “Grievance Records,” to update the number of the system, to more accurately reflect its Department-wide scope of records collected by the systems, additional system disclosures and the addresses of the system locations and system managers to reflect changes that have occurred since the notice was last published. Accordingly, HUD proposes to amend the “HUD-66: Grievance Records,” system notice to read as follows. Nothing in the revised system notices indicates a change in authorities or practices regarding the collection and maintenance of information. Nor do the changes impact individuals' rights to access or amend their records in the systems of records. This notice deletes and supersedes notice previously published on September 11, 1980 at 45 FR 27973.

DATES: Effective Date: This proposal shall become effective, without further notice, July 9, 2012, unless comments are received during or before this period which would result in a contrary determination.

Comments Due Date: July 9, 2012.

ADDRESSES: Interested persons are invited to submit comments regarding this notice to the Rules Docket Clerk, Office of General Counsel, Department of Housing and Urban Development, 451 Seventh Street SW., Room 10276, Washington, DC 20410. Communications should refer to the above docket number and title. Fax comments are not acceptable. A copy of each communication submitted will be available for public inspection and copying between 8:00 a.m. and 5:00 p.m., weekdays at the above address.

FOR FURTHER INFORMATION CONTACT: For Privacy Act inquiries contact Donna Robinson-Staton, Chief Privacy Officer, Department of Housing and Urban Development, 451 Seventh Street SW., Washington, DC 20410, telephone number (202) 402-8087. Regarding records maintained in Washington, DC 20410 contact the Director, Employee and Labor Relations Division, Office of Chief Human Capital Officer (OCHCO), Department of Housing and Urban Development, 451 Seventh Street SW., Washington, DC 20410. [The above are not toll free numbers.] A telecommunications device for hearing- and speech-impaired persons (TTY) is available at 1-800-877-8339 (Federal Information Relay Services).

SUPPLEMENTARY INFORMATION: Title 5 U.S.C. 552a(e)(4) and (11) provides that the public be afforded a 30-day period in which to comment on the amended record system. The system report was submitted to the Office of Management and Budget (OMB), the Senate Committee on Homeland Security and Governmental Affairs and the House Committee on Government Reform pursuant to Paragraph 4c of Appendix l to OMB Circular No. A-130, “Federal Agencies Responsibilities for Maintaining Records About Individuals,” dated July 25, 1993 (58 FR 36075, July 2, 1993).

Authority: 5 U.S.C. 552a; 88 Stat. 1896; 42 U.S.C. 3535(d).

Dated: May 24, 2012.
Kevin R. Cooke,
Deputy Chief Information Officer.

HUD/OCHCO.01

System name:

Grievance Records.

System location:

The files are maintained at the following locations: U.S. Department of Housing and Urban Development Headquarters location, 451 7th Street SW., Washington, DC 20410; and HUD field offices located in the following cities: Washington, DC; Boston, MA; New York, NY; Philadelphia, PA; Chicago, IL; Atlanta, GA; Fort Worth, TX; Denver, CO; Seattle, WA; San Francisco, CA; and Los Angeles, CA. (See also on HUD's privacy Web site, Appendix II for the addresses of the above Field Offices where Privacy Act records may in some cases be maintained or accessed).

Categories of individuals covered by the system:

Current or former HUD employees who have submitted grievances in accordance with part 771 of OPM regulations (5 CFR part 771), HUD regulations, or a negotiated procedure.

Categories of records in the system:

The system contains records relating to internal grievances filed by agency employees with any part of the Department. These case files contain all documents related to the grievance, including, but not limited to statements of witnesses, reports of interviews and hearings, examiner's findings and recommendations, a copy of the original and final decision, and related correspondence and exhibits. This system includes copies of files and records of internal grievance and arbitration systems that HUD may establish through negotiations with recognized labor organizations. This system also includes, contact information, on HUD employees responsible for processing grievance requests, such as position/job title, org code, office phone number and work email address and work address, and office stop. Additional records will include any other contact information for witnesses, interviewers, examiners and employee representatives of the grievant. HUD captures a unique non-indentifying piece of information called, a grievance control number. The only personal information collected on the above people would be their name. Other identifying information is dependent upon the specific nature of the topic being grieved and may involve the collection of personal data from the grievant.

Authority for maintenance of the system:

5 U.S.C. 1302, 3301, 3302, E.O. 10577, 3 CFR part 1954-1958 Comp., p. 218, EO 10987, 3 CFR parts 1959-1963 Comp., p. 519.

Routine uses of records maintained in the system, including categories of users and the purposes of such uses: These records and information in these records may be used:

Records in the system will be disclosed as follows. In addition to those disclosures generally permitted under 5 U.S.C. 552a (b) of the Privacy Act other routine uses include:

1. To a congressional office from the record of an individual in response to an inquiry from that congressional office made at the request of that individual.

2. To the National Archives and Records Administration in records management inspections conducted under authority of 44 U.S.C. 2004 and 2908.

3. To the Department of Justice (DOJ) when seeking legal advice or for use in any proceeding, or in preparation for any proceeding, when HUD or any component thereof disclose information to DOJ during the course of an investigation to the extent necessary to obtain information pertinent to the investigation under applicable HUD administered Rental Housing Assistance Programs.

4. To HUD contractors for the purpose of conducting oversight and monitoring of program operations to determine compliance with applicable laws and regulations, and reporting requirements relevant to this system of records. Individuals provided information under this routine use is subject to Privacy Act requirement and limitation on disclosures as are applicable to HUD officials and employees.

5. To the appropriate Federal, State, or local agency responsible for investigating, prosecuting, enforcing, or implementing a statute, rule, regulation, or order, where the disclosing agency becomes aware of an indication of a violation or potential violation of civil or criminal law or regulation.

6. To any individual (in the course of processing a grievance) from which additional information is relevant to the adjudication and/or the course of processing a grievance, to the extent necessary to identify the individual, inform the individual of the purpose(s) of the request for the information and to identify the type of information requested. This routine use is compatible to the purpose because it is necessary to disclose information that is appropriate for proper performance of the official duties of the officer making the disclosure.

7. To Federal agency in response to its request, in connection with the hiring or retention of an employee, the issuance of a security clearance, the conducting of a security or suitability investigation of an individual, the classifying of jobs, the letting of a contract, or the issuance of a license, grant, or other benefit by the requesting agency, to the extent that the information is relevant and necessary to requesting the agency's decision on the matter.

8. To a court when the Government is party to a judicial proceeding before the court.

9. To any individual's in the form of summary descriptive statistics and analytical studies in support of the function for which the records are collected and maintained, or for related work force studies. (Note: While published statistics and studies do not contain individual identifiers, in some instances the selection of elements of data included in the study may be structured in such a way as to make the data individually identifiable by inference.)

10. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

11. To a request for discovery or for appearance of a witness, information that is relevant to the subject matter involved in a pending judicial or administrative proceeding.

12. To officials of labor organizations recognized under the Civil Service Reform Act when relevant and necessary to their duties of exclusive representation concerning personnel policies, practices, and matters affecting work conditions.

13. To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach. (See also on HUD's privacy Web site, Appendix I for other ways that the Privacy Act permits HUD to use or disclose system records outside the agency).

Policies and practices for storing, retrieving, accessing, retaining, and disposing of records in the system:

Storage:

These records are currently maintained in hardcopy file folders. There is currently no electronic storage of any grievance records.

Retrievability:

These hardcopy file records are retrieved by the names of the individuals on whom they are maintained.

Safeguards:

Currently, these hardcopy file records are maintained in locked metal filing cabinets to which only authorized personnel have access. There are no current electronically stored file folders.

Retention and disposal:

These hardcopy file records are disposed of 3 years after closing of the case. Disposal is by shredding or burning. See OCHCO Handbook 2225.6, Rev-1, CHG-23, Appendix 3, “Records Disposition Schedule 3”, Item 8-1, dated July 1996.

System manager(s) and address:

Director, Employee and Labor Relations Division, Office of Chief Human Capital Officer (OCHCO), Department of Housing and Urban Development, 451 Seventh Street SW., Washington, DC 20410.

Notification procedure:

Individuals seeking to determine whether this system of records contains information about them, or those seeking access to such records, should address inquiries to, Chief Privacy Officer, Department of Housing and Urban Development, 451 Seventh Street SW., Room 4156, Washington, DC 20410. Provide verification of your identity by providing two proofs of identification. Your verification of identity must include your original signature and must be notarized.

Record access procedures:

It is required that individuals submitting grievances be provided a copy of the record under the grievance process. However, after the action has been closed an individual may request access to the official copy of the grievance file. The Department's rules for providing access to records to the individual concerned appear in 24 CFR part 16. If additional information or assistance is required, contact the Privacy Officer at the appropriate location.

Contesting record procedures:

Review of requests from individuals seeking amendment of their records which have been the subject of a judicial or quasi-judicial action will be limited in scope. Review of amendment requests of these records will be restricted to determining if the record accurately documents the action of the agency ruling on the case, and will not include a review of the merits of the action, determination, or finding. The Department's rules for contesting the contents of records and appealing initial denials by the individual concerned appear in 24 CFR part 16.

(i) Contesting content of records:

The Chief Privacy Officer, Department of Housing and Urban Development; 451 Seventh Street SW., Room 4156, Washington, DC 20410, if contesting the content of records; or

(ii) Appeals of initial HUD determinations:

The Departmental Privacy Appeals Office, Office of the General Counsel, Department of Housing and Urban Development, 451 Seventh Street SW., Washington DC 20410 for in relation to appeals of initial denials,

Record source categories:

Information in this system of records is provided:

Records source are individuals who file a grievance; by testimony of witnesses, by agency officials, grievance examiners, and/or arbitrators, and by related correspondence from organizations or persons.

Exemptions from Certain Provision of the Act:

None.

[FR Doc. 2012-13776 Filed 6-6-12; 8:45 am]

BILLING CODE 4210-67-P